DEPARTMENT OF THE TREASURY

Office of Foreign Assets Control

Blocking of Specially Designated National Pursuant to Executive Order 13413

AGENCY: Office of Foreign Assets Control, Treasury.

ACTION: Notice.

SUMMARY: The Treasury Department's Office of Foreign Assets Control (“OFAC”) is publishing the name of five individuals whose property and interests in property have been blocked pursuant to Executive Order 13413 of October 27, 2006, “Blocking Property of Certain Persons Contributing to the Conflict in the Democratic Republic of Congo”.

DATES: The designation by the Director of OFAC of the five individuals identified in this notice, pursuant to Executive Order 13413 of October 27, 2006, is effective on April 28, 2010.

FOR FURTHER INFORMATION CONTACT: Assistant Director, Compliance Outreach & Implementation, Office of Foreign Assets Control, Department of the Treasury, Washington, DC 20220, tel.: 202/622-2490.

SUPPLEMENTARY INFORMATION:

Electronic and Facsimile Availability

This document and additional information concerning OFAC are available from OFAC's Web site (http://www.treas.gov/ofac) via facsimile through a 24-hour fax-on demand service, tel.: (202) 622-0077.

Background

On October 27, 2006, the President signed Executive Order 13413 (the “Order”) pursuant to, inter alia, the International Emergency Economic Powers Act (50 U.S.C. 1701 et seq.) (IEEPA), section 5 of the United Nations Participation Act, as amended (22 U.S.C. 287c) (UNPA), and section 301 of title 3, United States Code. In the Order, the President found that the situation in the Democratic Republic of the Congo constitutes an unusual and extraordinary threat. The President identified seven individuals as subject to the economic sanctions in the Annex to the Order.

Section 1 of the Order blocks, with certain exceptions, all property and interests in property that are in, or thereafter come within, the United States, or within the possession or control of United States persons, of the persons listed in the Annex, as well as those persons determined by the Secretary of the Treasury, after consultation with the Secretary of State, to meet any of the criteria set forth in subparagraphs (a)(i)-(a)(ii)(G) of Section 1.

On April 28, 2010, the Director of OFAC exercised the Secretary of the Treasury's authority to designate, pursuant to one or more of the criteria set forth in Section 1 of the Order, the individuals listed below, whose property and interests in property are blocked pursuant to E.O. 13413.

The listing of the blocked individuals is as follows:

NTAGANDA, Bosco (a.k.a. BAGANDA, Bosco; a.k.a. NTAGANDA, Jean Bosco; a.k.a. NTAGENDA, Bosco; a.k.a. NTANGANA, Bosco; a.k.a. NTANGANDA, Bosco; a.k.a. TAGANDA, Bosco; a.k.a. TANGANDA, Bosco), Runyoni, Rutshuru, North Kivu, Congo, Democratic Republic of the; DOB 1973; POB Nord-Kivu, DRC; alt. POB Rwanda; nationality Congo, Democratic Republic of the (individual) [DRCONGO]

LUBANGA, Thomas (a.k.a. DYILO, Thomas Lubanga); DOB 29 Dec 1960; POB Djiba, Utcha Sector, Djugu Territory, Ituri District, Orientale Province, DRC; nationality Congo, Democratic Republic of the (individual) [DRCONGO]

KATANGA, Germain; DOB 28 Apr 1978; POB Mambasa, Mambasa Territory, Ituri District, DRC; nationality Congo, Democratic Republic of the (individual) [DRCONGO]

NGUDJOLO, Matthieu Cui (a.k.a. CUI NGUDJOLO; a.k.a. NGUDJOLO CHUI, Mathieu; a.k.a. NGUDJOLO, Cui Cui; a.k.a. NGUDJOLO, Mathieu; a.k.a. TCHUI, Mathieu Ngudjolo); DOB 8 Oct 1970; POB Bunia, Ituri District, DRC; nationality Congo, Democratic Republic of the (individual) [DRCONGO]

MUTEBUTSI, Jules (a.k.a. COLONEL MUTEBUTSI; a.k.a. MUTEBUSI, Jules; a.k.a. MUTEBUZI, Jules), Rwanda; DOB 6 Jul 1960; POB South Kivu, DRC; nationality Congo, Democratic Republic of the (individual) [DRCONGO]

Dated: April 28, 2010.
Adam J. Szubin,
Director, Office of Foreign Assets Control.

[FR Doc. 2010-10298 Filed 5-3-10; 8:45 am]

BILLING CODE 4811-45-P